ENVIRONMENTAL PROTECTION AGENCY

[EPA-HQ-OPP-2014-0577; FRL-9922-11]

Diclofop-methyl; Notice of Receipt of Request To Voluntarily Cancel Certain Pesticide Registrations

AGENCY: Environmental Protection Agency (EPA).

ACTION: Notice.

SUMMARY: In accordance with the Federal Insecticide, Fungicide, and Rodenticide Act (FIFRA), EPA is issuing a notice of receipt of a request by the registrants to voluntarily cancel all pesticide product registrations containing the pesticide diclofop-methyl. The request would cancel diclofop-methyl use in or on wheat, barley, and golf course turf and would terminate the last diclofop-methyl products registered for use in the United States. EPA intends to grant this request at the close of the comment period for this announcement unless the Agency receives substantive comments within the comment period that would merit its further review of the request, or unless the registrants withdraw their request. The cancellation for diclofop-methyl products will be effective on January 1, 2018 as described in Unit II below. If this request is granted, any sale, distribution, or use of products listed in this notice will be permitted after the registrations have been cancelled only if such sale, distribution, or use is consistent with the terms as described in the final order.

DATES: Comments must be received on or before March 13, 2015.

ADDRESSES: Submit your comments, identified by docket identification (ID) number EPA-HQ-OPP-2014-0577, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Rich Dumas, Pesticide Re-Evaluation Division (7508P), Office of Pesticide Programs, Environmental Protection Agency, 1200 Pennsylvania Ave. NW., Washington, DC 20460-0001; telephone number: (703) 308-8115; email address: dumas.richard@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Cancel Registrations

This notice announces receipt by EPA of a request from registrants, Bayer CropScience and Bayer Environmental Science, to cancel all diclofop-methyl product registrations. Diclofop-methyl is a restricted use herbicide registered for use on wheat, barley, and golf course turf to control wild oats and annual grassy weeds. In a letter dated October 23, 2014, Bayer CropScience and Bayer Environmental Science requested EPA to cancel certain pesticide product registrations identified in Table 1 of Unit III. Specifically, Bayer requests that all diclofop-methyl registrations be cancelled effective January 1, 2018. This action will terminate the last diclofop-methyl products registered in the United States.

III. What action is the agency taking?

This notice announces receipt by EPA of a request from registrants to cancel all diclofop-methyl product registrations. The affected products and the registrants making the requests are identified in Tables 1 and 2 of this unit.

On September 24, 2014, the public phase of registration review for diclofop-methyl began with the opening of the initial docket (EPA-HQ-OPP-2014-0577) and publication of the Preliminary Work Plan (PWP) and supporting science documents. The comment period for the diclofop-methyl registration review docket was open for 60 days, from September 24, 2014 to November 24, 2014. The Agency's projected registration review timeline described in the PWP established that preliminary risk assessments would be completed by December 2018, and the final registration decision would be completed in 2020. The technical registrants subsequently requested cancellation of all diclofop-methyl products effective January 1, 2018.

Unless a request is withdrawn by the registrant or if the Agency determines that there are substantive comments that warrant further review of this request, EPA intends to issue an order canceling the affected registrations.

Table 1—Diclofop-Methyl Product Registrations With Pending Requests for Cancellation
Registration No. | Product name | Company
264-641 | Hoelon 3EC Herbicide | Bayer CropScience.
264-642 | Hoelon Technical | Bayer CropScience.
432-1231 | Illoxan 3EC Herbicide | Bayer Environmental Science.

Table 2 of this unit includes the names and addresses of record for the registrants of the products listed in Table 1 of this unit, in sequence by EPA company number. This number corresponds to the first part of the EPA registration numbers of the products listed in Table 1 of this unit.

Table 2—Registrants Requesting Voluntary Cancellation and/or Amendments
EPA company No. | Company name and address
264 | Bayer CropScience.
432 | Bayer Environmental Science.

IV. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

Because diclofop-methyl is not registered for any minor agricultural uses, this 180-day comment provision does not apply, and EPA is providing a 30-day comment period on the proposed voluntary cancellation of diclofop-methyl registrations.

V. Procedures for Withdrawal of Requests

Registrants who choose to withdraw a request for product cancellation or use deletion should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request for voluntary cancellation is granted, the Agency intends to publish the cancellation order in the Federal Register. Because these diclofop-methyl products are reregistered pesticides, there are no known risks of concern, and the effective cancellation date for the products will occur two years prior to the time of the planned registration review decision for diclofop-methyl, the Agency expects to grant this request unless the Agency receives substantive comments that warrant further review of the request or the registrants withdraw their request. In 2015, the Agency intends to issue an order in the Federal Register canceling all registrations effective January 1, 2018. On issuance of the cancellation order, EPA anticipates allowing registrants to sell and distribute existing stocks of these products until January 1, 2018. Thereafter, registrants will be prohibited from selling or distributing the pesticides identified in Table 1 of Unit III., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: January 30, 2015.
Richard P. Keigwin, Jr.,
Director, Pesticide Re-Evaluation Division, Office of Pesticide Programs.

[FR Doc. 2015-02861 Filed 2-10-15; 8:45 am]

BILLING CODE 6560-50-P